DEPARMENT OF THE INTERIOR

Bureau of Land Management

[14XLLAKF02000.L16100000. DQ0000.LXSS094L0000]

Notice of Availability of Additional Information on Proposed Areas of Critical Environmental Concern and Associated Resource Use Limitations Identified in the Draft Eastern Interior Resource Management Plan/Draft Environmental Impact Statement, Alaska

AGENCY: Bureau of Land Management, Department of the Interior.

ACTION: Notice of availability.

SUMMARY: On February 24, 2012, the Bureau of Land Management (BLM) published a Notice of Availability (NOA) of the Eastern Interior Draft Resource Management Plan (RMP)/Environmental Impact Statement (EIS) for public review and comment in the Federal Register. BLM planning regulations require the BLM to notify the public of proposed Areas of Critical Environmental Concern (ACEC) and specify the resource use limitations which would occur if the ACECs were formally designated through approval of the Eastern Interior RMP. Based on public comment on the Draft RMP, the BLM proposes the reconfiguration of the Fortymile ACEC and proposes a new ACEC on the Mosquito Flats. These specific proposed ACEC boundaries were not noticed in the Draft RMP/EIS. Thus, the BLM is providing this notice and public comment period for these two proposed ACECs.

DATES: You may submit comments related to the new ACEC information in this notice until March 3, 2014.

ADDRESSES: You may submit comments related to the new ACEC information by any of the following methods:

• Email: easterninterior@blm.gov.

• Fax: 907-474-2282.

• Mail: Eastern Interior Field Office, Attention—Eastern Interior RMP, Bureau of Land Management, 1150 University Avenue, Fairbanks, Alaska 99709.

FOR FURTHER INFORMATION CONTACT: Jeanie Cole, telephone 907-474-2340 or email j05cole@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Comments on the Draft RMP/EIS received from the public and internal BLM analyses on ACECs were reviewed and considered for incorporation into the proposed plan. As a result, the BLM now proposes the addition of the 30,000 acre Mosquito Flats ACEC and reconfiguration of the Fortymile ACEC to 685,000 acres. It is unnecessary to issue a supplement to the Draft EIS pursuant to 40 CFR 1502.9 because the proposed land management direction for these ACECs was within the spectrum of alternatives analyzed in the Draft EIS. The following description details the information for these two proposed ACECs. Maps of both ACECs are available on the BLM's Eastern Interior RMP Web site at www.blm.gov/ak/eirmp.

Mosquito Flats ACEC (30,000 Acres)

During the public comment period for the Eastern Interior RMP, the BLM received two nominations for an ACEC on the Mosquito Flats. The proposed Mosquito Flats ACEC is a large wetland complex unique to BLM lands in the planning area; it consists of a wetland basin situated in the upper portion of the drainage, at relatively high elevation (~2250 ft), and surrounded by mountains. Mosquito Flats provides unique wetland and aquatic habitats and supports a variety of wildlife species.

The proposed ACEC is comprised of a complex of floating bog wetland vegetation partially surrounded by mountains. The Mosquito Fork River flows over continuous sand beds that are uncharacteristically clean, light colored, well-sorted, and low in organics. These sand beds provide unique aquatic habitat essential for maintaining diverse species within the planning area.

Mosquito Flats is an important moose calving area and summer habitat for the regional moose population. The area also supports short-eared owls and nesting trumpeter swans, both BLM-Alaska sensitive species. It may also support other BLM-sensitive species, including olive-sided flycatcher, rusty blackbird, and blackpoll warbler.

Proposed Use Limitations: Closed to locatable mineral entry and mineral leasing, subject to valid existing rights. Off-Highway Vehicle (OHV) use is limited by season with no summer use, except by permit.

Fortymile ACEC (685,000 Acres)

The BLM proposes modifying the boundary of the Fortymile ACEC that was presented in Alternative B in the Draft RMP/EIS to improve manageability by including additional small parcels between the calving/post-calving distribution and the Fortymile National Wild and Scenic River Corridor. The Fortymile ACEC is proposed to maintain effective caribou and Dall sheep habitat and mineral licks. The Fortymile caribou herd is an important subsistence resource in interior Alaska and calving and postcalving habitats are considered the most sensitive seasonal habitats.

Proposed Use Limitations: Closed to locatable mineral entry and mineral leasing, subject to valid existing rights. Limited OHV designation: Seasonal limitation on uses within 1 mile of mineral licks.

Consistent with 43 CFR 1610.7-2, the BLM is providing this notice and public comment period for these two proposed ACECs. (Supplemental information can be found in the original Notice of Availability (NOA) published in the Federal Register and on the Eastern Interior RMP Web site at www.blm.gov/ak/eirmp).

You may submit comments related to the new ACEC information on this notice until March 3, 2014 using any of the methods listed in the DATES section above.

Before including your address, phone number, email address, or other personal identifying information in your comment, you should be aware that your entire comment—including your personal identifying information—may be made publicly available at any time. While you can ask us in your comment to withhold your personal identifying information from public review, we cannot guarantee that we will be able to do so.

Bud C. Cribley,
State Director.

Authority: 43 CFR 1610.7-2

[FR Doc. 2014-30598 Filed 12-31-14; 8:45 am]

BILLING CODE 4310-JA-P